DEPARTMENT OF THE TREASURY

Customs Service

19 CFR Part 141

[T.D. 02-7]

RIN 1515-AD03

Andean Trade Preference Act

AGENCY: Customs Service, Department of the Treasury.

ACTION: Temporary rule; correction.

SUMMARY: On February 15, 2002, a temporary rule was published in the Federal Register as T.D. 02-07 (67 FR 7070-7071). Effective on February 15, 2002, this temporary rule permits importers of eligible articles that, but for the expiration of the ATPA, would have been entitled to duty-free treatment under the ATPA, the option to defer the payment of estimated Customs duties and fees after entry of those articles until May 16, 2002. The purpose of this document is to correct and clarify the wording of two sentences in the preamble of the temporary rule document. The substantive text of the temporary rule is unchanged.

EFFECTIVE DATE: This temporary rule remains effective on February 15, 2002, and expires on May 16, 2002.

FOR FURTHER INFORMATION CONTACT: Leon Hayward, Office of Field Operations, 202-927-3271.

SUPPLEMENTARY INFORMATION:

Background

On February 15, 2002, a temporary rule was published in the Federal Register (67 FR 7070-7071) as T.D. 02-07. Effective on February 15, 2002, this temporary rule permits importers of eligible articles that, but for the expiration of the ATPA, would have been entitled to duty-free treatment under the ATPA, the option to defer the payment of estimated Customs duties and fees after entry of those articles until May 16, 2002. This document corrects and clarifies the wording of two sentences in the preamble of the temporary rule document. The substantive text of the temporary rule is unchanged.

Corrections

The document published in the Federal Register as T.D. 02-7 on February 15, 2002 (67 FR 7070) is corrected as set forth below:

1. Beginning on page 7070, on the bottom of the third column, and continuing on page 7071 in the first column, the last sentence of the first paragraph of the “Summary” is removed and the following two sentences are added in its place to read as follows:

The Administration anticipates that the duty-free treatment accorded to merchandise under the provisions of the ATPA will be restored and made retroactive to the date of the initial termination of such duty-free treatment (December 4, 2001). There will be no extension of this extraordinary action.

2. On page 7071, in the “Background” portion of the document, in the second column, in the fourth paragraph, the last sentence is corrected to read as follows:

Accordingly, a one-time interim deferral of estimated duties and fees in anticipation of Congressional re-enactmant of ATPA within the next 90 days is appropriate to further the national security interest in combating narcotic production and trafficking and related criminal and terrorist activities.

Approved: March 15, 2002.
Douglas M. Browning,
Acting Assistant Commissioner, Office of Regulations and Rulings.

[FR Doc. 02-6808 Filed 3-20-02; 8:45 am]

BILLING CODE 4820-02-P